DEPARTMENT OF HEALTH AND HUMAN SERVICES

Administration for Children and Families

Proposed Information Collection Activity; Mother and Infant Home Visiting Program Evaluation: Long-Term Follow-Up, Third Grade Data Collection (Office of Management and Budget #0970-0402)

AGENCY: Office of Planning, Research, and Evaluation, Administration for Children and Families, Department of Health and Human Services.

ACTION: Request for public comments.

SUMMARY: The Administration for Children and Families (ACF), in partnership with the Health Resources and Services Administration, both of the U.S. Department of Health and Human Services (HHS), is proposing to collect data as part of the elementary school phase of the Mother and Infant Home Visiting Program Evaluation (MIHOPE). MIHOPE is a longitudinal study of the effects of Maternal, Infant, and Early Childhood Home Visiting (MIECHV)-funded home visiting on child and family outcomes. The purpose of the MIHOPE Long-Term Follow-Up, Third grade (MIHOPE-3G) data collection, which will focus on children when they are in approximately third grade, is to assess the long-term effects of MIECHV-funded home visiting on families and children when participating children are in elementary school.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: To date, MIHOPE has been collecting data through the time children in the study were in approximately kindergarten. The currently approved materials under this OMB number include those for the kindergarten follow-up. The kindergarten direct data collection with study participants is complete, but some administrative data are still being collected from states and local education agencies.

This request is to complete administrative data collection for the kindergarten follow-up and to conduct the following data collection activities for MIHOPE 3G: (1) child welfare records data collection from states and (2) school records data collection from states and local education agencies. Future information collection requests and related Federal Register notices will describe future data collection efforts for this project.

Data collected during the third-grade follow-up study is being used to estimate the effects of MIECHV-funded programs on the following seven domains: (1) maternal health, (2) child health, (3) child development and school performance, (4) child maltreatment, (5) parenting, (6) crime or domestic violence, and (7) family economic self-sufficiency.

Respondents: For MIHOPE-3G, we will seek to obtain child welfare data from 11 states and school records data from up to 48 states and local education agencies. This data will be collected for 4,105 families who are currently participating in MIHOPE.

Annual Burden Estimates
Instrument | Number of respondents (total over request period) | Number of responses per respondent (total over request period) | Average burden per response (in hours) | Total burden (in hours) | Annual burden (in hours)
Remaining Burden for Kindergarten Follow-up
State and local education agency school records: data file submission | 8 | 1 | 15.6 | 125 | 42
State child welfare records: data file submission | 5 | 1 | 8.4 | 42 | 14
New Request for MIHOPE-3G
State and local education agency school records: data file submission | 48 | 2 | 33.75 | 3,240 | 1,080
State child welfare records: data file submission | 11 | ᵃ 2.1 | 21.43 | 495 | 165
Note: ᵃ The 2.1 responses is a weighted average that reflects that the study team expects to collect 2 data extracts from 10 states and 3 data extracts from 1 state.

Estimated Total Annual Burden Hours: 1,301.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act Title V 511 [42 U.S.C. 711]. As amended by Section 6101 of the Consolidated Appropriations Act, 2023 (Pub. L. 117-328).

Mary B. Jones,
ACF/OPRE Certifying Officer.

[FR Doc. 2023-10095 Filed 5-10-23; 8:45 am]

BILLING CODE 4184-74-P